DEPARTMENT OF TRANSPORTATION

Federal Aviation Administration

14 CFR Part 39

[Docket No. FAA-2009-0113; Directorate Identifier 2008-NE-25-AD]

RIN 2120-AA64

Airworthiness Directives; Hamilton Sundstrand Propellers Model 247F Propellers

AGENCY: Federal Aviation Administration (FAA), DOT.

ACTION: Supplemental notice of proposed rulemaking (NPRM); reopening of comment period.

SUMMARY: This supplemental NPRM revises an earlier proposed airworthiness directive (AD) applicable to Hamilton Sundstrand Propellers model 247F propeller assemblies with certain part number (P/N) and serial number (S/N) blades. That proposed AD would require removing affected propeller blades from service. That proposed AD resulted from reports of blades with corrosion pits in the tulip area of the blades. This supplemental NPRM revises the proposed AD to remove certain propeller S/Ns from the applicability requirement, and to add additional propeller S/Ns to the applicability requirement. This proposed AD results from the manufacture's latest service information containing propeller S/Ns that were not specified in the proposed AD. We are proposing this AD to prevent cracks from developing in the tulip area of the blade, which could result in separation of the blade and possible loss of airplane control.

DATES: We must receive any comments on this proposed AD by December 7, 2010.

ADDRESSES: You can get the service information identified in this AD from Hamilton Sundstrand Propeller Technical Team, One Hamilton Road, Mail Stop 1-3-AB43, Windsor Locks, CT 06096-1010; fax (860) 654-5107.

The Docket Operations office is located at Docket Management Facility, U.S. Department of Transportation, 1200 New Jersey Avenue, SE., West Building Ground Floor, Room W12-140, Washington, DC 20590-0001.

FOR FURTHER INFORMATION CONTACT: Michael Schwetz, Aerospace Engineer, Boston Aircraft Certification Office, FAA, Engine and Propeller Directorate, 12 New England Executive Park, Burlington, MA 01803; e-mail: michael.schwetz@faa.gov; telephone (781) 238-7761; fax (781) 238-7170.

SUPPLEMENTARY INFORMATION: The FAA proposed to amend 14 CFR part 39 with a proposed AD. The proposed AD applies to Hamilton Sundstrand Propellers model 247F propeller assemblies with certain P/N and S/N blades. We published the proposed AD in the Federal Register on February 20, 2009 (74 FR 7833). That action proposed to require removing affected propeller blades from service.

SUPPLEMENTARY INFORMATION:

Comments Invited

We invite you to send us any written relevant data, views, or arguments regarding this proposal. Send your comments to an address listed under ADDRESSES. Include “Docket No. FAA-2009-0113; Directorate Identifier 2008-NE-25-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

On February 11, 2009, we proposed to amend 14 CFR part 39 with a proposed AD. The proposed AD applies to Hamilton Sundstrand Propellers model 247F propeller assemblies with blades, P/N 817370-1, S/Ns FR2018, FR2083, FR2103, FR2108, FR2109, FR2111, FR2123, FR2178, FR2183, FR2187, FR2262, FR2276 through FR2279, FR2303, and FR2389. We published the proposed AD in the Federal Register on February 20, 2009 (74 FR 7833). That action proposed to require removing affected propeller blades from service.

Since we issued the proposed AD, Hamilton Sundstrand informed us that they incorrectly listed blade S/N FR2398 as S/N FR2389. They also informed us that the 247F propeller blades, P/N 817370-1, S/Ns FR2449 to FR2958 inclusive, FR20010710 to FR20010722 inclusive, and FR20010723RT to FR20020127RT inclusive, manufactured since January 1999, might also have damage to the corrosion protection on the blade tulips. Those blades also require complying with Service Bulletin (SB) 247F-61-54, Revision 1, dated January 12, 2004.

Comments

We provided the public the opportunity to participate in the development of this AD. We received no comments on the proposal or on the determination of the cost to the public.

Changed Applicability of This Proposed AD

We added blade S/Ns FR2398, FR2449 to FR2958 inclusive, FR20010710 to FR20010722 inclusive, and FR20010723RT to FR20020127RT inclusive to the applicability of the proposed AD.

We removed blade S/Ns FR2083, FR2178, FR2303, and FR2389 from the applicability of the proposed AD. Hamilton Sundstrand informed us that they have reworked those blades to SB 247F-61-54, Revision 1, dated January 12, 2004.

Conclusion

We have carefully reviewed the available data, and determined that air safety and the public interest require reopening the comment period for the NPRM with the changes described previously.

FAA's Determination and Requirements of the Supplemental NPRM

We have evaluated all pertinent information and identified an unsafe condition that is likely to exist or develop on other products of this same type design. We are proposing this AD, which would require removing certain propeller assemblies before December 31, 2010.

Costs of Compliance

We estimate that this AD will affect 10 propellers installed on airplanes of U.S. registry. We also estimate that it will take about 16 work-hours per propeller to perform the required actions, and that the average labor rate is $85 per work-hour. Required parts will cost about $50 per propeller. Based on these figures, we estimate the total cost of this AD to U.S. operators to be $14,100.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Hamilton Sundstrand Corporation: Docket No. FAA-2009-0113; Directorate Identifier 2008-NE-25-AD.

Comments Due Date

(a) The Federal Aviation Administration (FAA) must receive comments on this airworthiness directive (AD) action by December 7, 2010.

Affected ADs

(b) None.

Applicability

(c) This AD applies to Hamilton Sundstrand model 247F series propellers with blades part number (P/N) 817370-1, serial numbers (S/Ns) FR2018, FR2103, FR2108, FR2109, FR2111, FR2123, FR2183, FR2187, FR2262, FR2276 through FR2279 inclusive, FR 2398, FR2449 to FR2958 inclusive, FR20010710 to FR20010722 inclusive, and FR20010723RT to FR20020127RT inclusive, installed. These propellers are installed on, but not limited to, ATR-GIE Avions de Transport Regional ATR72-210 and ATR72-210E airplanes.

Unsafe Condition

(d) This AD results from reports of blades with corrosion pits in the tulip area of the blades. We are issuing this AD to prevent cracks from developing in the tulip area of the blade, which could result in separation of the blade and possible loss of airplane control.

Compliance

(e) You are responsible for having the actions required by this AD performed within the compliance times specified unless the actions have already been done.

Removing Blades P/N 817370-1

(f) Remove from service, blades P/N 817370-1, S/Ns FR2018, FR2103, FR2108, FR2109, FR2111, FR2123, FR2183, FR2187, FR2262, and FR2276 through FR2279, and FR2398 within 30 days after the effective date of this AD.

(g) Remove from service, blades P/N 817370-1, S/Ns FR2449 to FR2958 inclusive, FR20010710 to FR20010722 inclusive, and FR20010723RT to FR20020127RT inclusive, before December 31, 2010.

Alternative Methods of Compliance

(h) The Manager, Boston Aircraft Certification Office, has the authority to approve alternative methods of compliance for this AD if requested using the procedures found in 14 CFR 39.19.

Related Information

(i) Contact Michael Schwetz, Aerospace Engineer, Boston Aircraft Certification Office, FAA, Engine and Propeller Directorate, 12 New England Executive Park, Burlington, MA 01803; e-mail: michael.schwetz@faa.gov; telephone (781) 238-7761; fax (781) 238-7170, for more information about this AD.

(j) Hamilton Sundstrand Service Bulletin 247F-61-54, Revision 1, dated January 12, 2004, pertains to the subject of this AD. Contact Hamilton Sundstrand Propeller Technical Team, One Hamilton Road, Mail Stop 1-3-AB43, Windsor Locks, CT 06096-1010; fax (860) 654-5107, for a copy of this service information.

Issued in Burlington, Massachusetts, on October 4, 2010.
Diane S. Romanosky,
Acting Manager, Engine and Propeller Directorate, Aircraft Certification Service.

[FR Doc. 2010-25390 Filed 10-7-10; 8:45 am]

BILLING CODE 4910-13-P